DEPARTMENT OF STATE

[Public Notice 6909]

Industry Advisory Panel: Notice of Open Meeting

The Industry Advisory Panel of the Bureau of Overseas Buildings Operations will meet on Wednesday, April 14, 2010 from 9:30 a.m. until 3:30 p.m. Eastern Daylight Time. The meeting is open to the public, as seating permits, and will be held in the Loy Henderson Conference Room of the U.S. Department of State, located at 2201 C Street, NW. (entrance on 23rd Street) Washington, DC. For logistical and security reasons, it is imperative that everyone enter and exit using only the 23rd Street entrance. The majority of the meeting will be devoted to an exchange of ideas between the Department's senior management and the panel members on design, operations, and building maintenance. There will be a reasonable time provided for members of the public to provide comment.

Entry to the building is controlled; to obtain pre-clearance for entry, members of the public planning to attend should provide, by April 1, 2010, their name, professional affiliation, date of birth, citizenship, and a valid government-issued ID number (i.e., U.S. government ID, U.S. military ID, passport, or drivers license) by e-mailing: FousheeCT@state.gov. Requests for reasonable accommodation should be sent to the same e-mail address by April 1, 2010. Requests made after that time will be considered, but may not be able to be fulfilled.

Please contact Christy Foushee at FousheeCT@state.gov or on (703) 875-5751 with any questions.

Dated: March 9, 2010.
Adam E. Namm,
Director, Acting U.S. Department of State, Bureau of Overseas Buildings Operations.

[FR Doc. 2010-6242 Filed 3-19-10; 8:45 am]

BILLING CODE 4710-24-P